ENVIRONMENTAL PROTECTION AGENCY

40 CFR Parts 50, 51, 70 and 71

[EPA-HQ-OAR-2010-0885; FRL-9823-8]

Implementation of the 2008 National Ambient Air Quality Standards for Ozone: State Implementation Plan Requirements

AGENCY: Environmental Protection Agency (EPA).

ACTION: Notice of public hearing.

SUMMARY: The EPA is announcing a public hearing to be held for the proposed rule “Implementation of the 2008 National Ambient Air Quality Standards for Ozone: State Implementation Plan Requirements” which published in the Federal Register on June 6, 2013. The hearing will be held on Tuesday, June 25, 2013, in Washington, DC

DATES: The public hearing will be held on June 25, 2013.

ADDRESSES: The June 25, 2013, hearing will be held at the EPA Ariel Rios North Building, Room 1332, 1200 Pennsylvania Avenue NW., Washington, DC 20460. The public hearing will convene at 9 a.m. and continue until 6 p.m. (local time) or later, if necessary, depending on the number of speakers wishing to participate. The EPA will make every effort to accommodate all speakers that arrive and register before 6 p.m. A lunch break is scheduled from 12:30 p.m. until 2 p.m. The EPA Web site for the rulemaking, which includes the proposal and information about the public hearing, can be found at: http://www.epa.gov/air/ozonepollution/actions.html#impl.

FOR FURTHER INFORMATION CONTACT: If you would like to speak at the public hearing, please contact Ms. Pamela Long, U.S. Environmental Protection Agency, OAQPS, Air Quality Planning Division, (C504-03), Research Triangle Park, NC 27711, telephone (919) 541-0641, fax number (919) 541-5509, email address long.pam@epa.gov, no later than June 24, 2013. If you have any questions relating to the public hearing, please contact Ms. Long at the above number.

Questions concerning the June 6, 2013, proposed rule should be addressed to Dr. Karl Pepple, U.S. EPA, Office of Air Quality Planning and Standards, State and Local Programs Group, (C539-01), Research Triangle Park, N.C. 27711, telephone number (919) 541-2683, email at pepple.karl@epa.gov.

SUPPLEMENTARY INFORMATION: The June 6, 2013, notice of proposed rulemaking proposes to implement the 2008 ozone national ambient air quality standards (NAAQS) (the “2008 ozone NAAQS”) that were promulgated on March 12, 2008. The proposed rule addresses a range of state implementation plan requirements for the 2008 ozone NAAQS, including requirements pertaining to attainment demonstrations, reasonable further progress, reasonably available control technology, reasonably available control measures, new source review requirements in nonattainment areas, emission inventories, and the timing of state implementation plan (SIP) submissions and of compliance with emission control measures in the SIP. Other issues also addressed in the proposed rule are the revocation of the 1997 ozone NAAQS and anti-backsliding requirements that would apply when the 1997 ozone NAAQS is revoked.

Public hearing: The proposal for which EPA is holding the public hearing was published in the Federal Register on June 6, 2013, (78 FR 34178) and is available at: http://www.epa.gov/air/ozonepollution/actions.html#impl and also in the docket identified below. The public hearing will provide interested parties the opportunity to present data, views, or arguments concerning the proposal. Because this hearing is being held at a U.S. government facility, individuals planning to attend the hearing should be prepared to show valid picture identification to the security staff in order to gain access to the meeting room. In addition, you will need to obtain a property pass for any personal belongings you bring with you. Upon leaving the building, you will be required to return this property pass to the security desk. No large signs will be allowed in the building, cameras may only be used outside of the building, and demonstrations will not be allowed on federal property for security reasons. The EPA may ask clarifying questions during the oral presentations, but will not respond to the presentations at that time. Written statements and supporting information submitted during the comment period will be considered with the same weight as any oral comments and supporting information presented at the public hearing. Written comments on the proposed rule must be postmarked by August 5, 2013.

Commenters should notify Ms. Long if they will need specific equipment, or if there are other special needs related to providing comments at the hearing. The EPA will provide equipment for commenters to show overhead slides or make computerized slide presentations if we receive special requests in advance. Oral testimony will be limited to 5 minutes for each commenter. The EPA encourages commenters to provide the EPA with a copy of their oral testimony electronically (via email or CD) or in hard copy form.

The hearing schedule, including lists of speakers, will be posted on the EPA's Web site http://www.epa.gov/air/ozonepollution/actions.html#impl.Verbatim transcripts of the hearing and written statements will be included in the docket for the rulemaking.

How can I get copies of this document and other related information?

The EPA has established a docket for the proposed rule “Implementation of the 2008 National Ambient Air Quality Standards for Ozone: State Implementation Plan Requirements” under Docket ID No. EPA-HQ-OAR-2010-0885 (available at www.regulations.gov).

As stated previously, the proposed rule was published in the Federal Register on June 6, 2013, (78 FR 34178) and is available at http://www.epa.gov/air/ozonepollution/actions.html#impl and in the above-cited docket.

Dated: June 6, 2013.
Mary Henigin,
Acting Director, Office of Air Quality Planning and Standards.

[FR Doc. 2013-13964 Filed 6-10-13; 8:45 am]

BILLING CODE 6560-50-P